DEPARTMENT OF COMMERCE

Foreign-Trade Zones Board

[Order No. 1931]

Grant of Authority; Establishment of a Foreign-Trade Zone Under the Alternative Site Framework; Ontario County, New York

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, Ontario County, New York (the Grantee) has made application to the Board (B-80-2013, docketed 8/22/2013), requesting the establishment of a foreign-trade zone under the ASF with a service area of Ontario, Wayne, Seneca, Yates, Steuben, and Livingston Counties, New York, adjacent to the Rochester Customs and Border Protection port of entry, with an initial proposed subzone under the ASF;

Whereas, notice inviting public comment has been given in the Federal Register (78 FR 53127, August 28, 2013) and the application has been processed pursuant to the FTZ Act and the Board's regulations; and,

Whereas, the Board adopts the findings and recommendations of the examiner's report, and finds that the requirements of the FTZ Act and the Board's regulations would be satisfied if the ASF service area is limited to Ontario, Wayne, Seneca, Yates, and Livingston Counties;

Now, therefore, the Board hereby grants to the Grantee the privilege of establishing a foreign-trade zone, designated on the records of the Board as Foreign-Trade Zone No. 289, with a service area of Ontario, Wayne, Seneca, Yates, and Livingston Counties, and subject to the FTZ Act and the Board's regulations, including Section 400.13, to the Board's standard 2,000-acre activation limit, and to a three-year ASF sunset provision for subzones that would terminate authority for Subzone 289A if no foreign-status merchandise is admitted for a bona fide customs purpose within three years from the date of approval.

Signed at Washington, DC, this 7th day of March 2014.
Penny Pritzker,
Secretary of Commerce, Chairman and Executive Officer, Foreign-Trade Zones Board.

[FR Doc. 2014-06242 Filed 3-20-14; 8:45 am]

BILLING CODE 3510-DS-P